DEPARTMENT OF ENERGY

Western Area Power Administration

Construction and Operation of the Proposed White Wind Farm Project, Brookings County, SD

AGENCY: Western Area Power Administration, DOE.

ACTION: Notice of intent.

SUMMARY: The Western Area Power Administration (Western), U.S. Department of Energy (DOE) intends to prepare an Environmental Impact Statement (EIS) on the proposal by Navitas Energy (Navitas) to construct and operate the White Wind Farm Project (Project) in Brookings County, South Dakota. The EIS will address the construction and operation of the proposed Project, which includes wind turbine generators, access roads, collection and feeder lines, communications system, and a new electrical substation. Navitas has applied to Western to interconnect the proposed Project to Western's power transmission system. Western needs to grant or deny Navitas' interconnection request under the provisions of its General Guidelines for Interconnections. Western will hold a 30-day scoping period and a scoping meeting near the project area to ensure that interested members of the public and groups, and Federal, state, local, and tribal agencies have an opportunity to provide input on the scope of the EIS.

DATES: The open-house public scoping meeting will be held on Tuesday, March 1, 2005, in Hendricks, Minnesota. Written comments should be received no later than 11:59 p.m. on March 31, 2005, which marks the end of the EIS scoping period.

ADDRESSES: The open-house public scoping meeting will be held at the Midwest Center for Wind Energy, 2390 County Highway 1, Hendricks, Minnesota. The Center is located approximately 25 miles northeast of the City of Brookings and approximately 15 miles east of the City of White, just east of the South Dakota/Minnesota state line. Written comments should be addressed to Mr. Dirk Shulund, B0402.BL, Western Area Power Administration, Upper Great Plains Regional Office, P.O. Box 35800, Billings, MT 59107-5800, telephone (406) 247-7402, fax (406) 247-7408, e-mail shulund@wapa.gov.

FOR FURTHER INFORMATION CONTACT: Mr. Mark J. Wieringa, NEPA Document Manager, Western Area Power Administration, P.O. Box 281213, Lakewood, CO 80228-8213, telephone (720) 962-7448 or (800) 336-7288, fax (720) 962-7263 or 7269, e-mail wieringa@wapa.gov. For general information on DOE's National Environmental Policy Act (NEPA) review procedures or status of a NEPA review, contact Ms. Carol M. Borgstrom, Director of NEPA Policy and Compliance, EH-42, U.S. Department of Energy, 1000 Independence Avenue SW., Washington, DC 20585, telephone (202) 586-4600 or (800) 472-2756.

SUPPLEMENTARY INFORMATION: Western intends to prepare an EIS on the proposal by Navitas to construct and operate the Project in Brookings County, South Dakota, southeast of the City of White. The EIS will address the construction and operation of the proposed Project, which includes wind turbine generators, access roads, collection and feeder lines, a communications system, and a new electrical substation. In addition to the proposed action, the no-action alternative, and any action alternatives defined as a result of the EIS scoping process, will also be addressed in the EIS. The EIS process will comply with the NEPA (42 U.S.C. 4321-4347, as amended), Council on Environmental Quality regulations for implementing NEPA (40 CFR parts 1500-1508), and DOE NEPA implementing procedures (10 CFR part 1021).

Navitas has applied to Western to interconnect the proposed Project to Western's power transmission system. Western is a power marketing agency of DOE that markets Federal electric power to municipalities, public utilities, and Native American tribes. Western offers capacity on its transmission system to deliver electricity when such capacity is available, under Western's Open Access Transmission Service Tariff (63 FR 5376). The Tariff substantively complies with the Federal Energy Regulatory Commission Final Orders No. 888 and 888A, which are intended to ensure non-discriminatory transmission system access. Western needs to grant or deny Navitas' interconnection request under the provisions of its General Guidelines for Interconnections.

Navitas is proposing to construct the Project, an approximately 200-megawatt (MW) wind turbine generation project, in a 31-square mile project area in Brookings County, South Dakota. The project area is surrounded by a 1-mile buffer zone, which would be included in the environmental analysis, for a total of approximately 55.5 square miles. The project area is located immediately southeast of the City of White and approximately 10 miles northeast of the City of Brookings, predominantly in Sherman Township, just west of the South Dakota/Minnesota state line.

The project area is mostly rural cropland, with some grazing land in rougher topography. Navitas has identified National Wetland Inventory wetlands and 100-year floodplains within the project area; these would be considered avoidance areas when siting the wind generators and supporting facilities. Each wind turbine would involve the permanent disturbance of an average of 0.5 acre. The proposed Project would be constructed entirely on private land.

The proposed Project would consist of up to 102 wind turbine generators on single pole structures, each rated at 2 MW. The turbines would have three blades, each 38 to 42 meters long, and would revolve at up to 18 revolutions per minute. The structures would each be 70 to 100 meters high and 4 to 5 meters in diameter at the base. The wind turbines would be installed on a concrete base, and each would have a pad-mounted transformer near the base. Lighting in accordance with U.S. Fish and Wildlife Service and Federal Aviation Administration requirements would be provided. There would be a class 5 all-weather gravel access road constructed to each turbine location, located along existing fence lines to the extent possible. The wind turbines would be connected by overhead feeder lines, underground power collection circuits, and a communications network. The underground collector circuits, comprised of three cables, would be buried to a depth that would not interfere with farming operations.

Siting of the wind turbine generators has not been completed, but would be designed to optimize wind and land resources in the area while minimizing environmental impacts to the extent practicable. Local zoning requirements would be complied with, including setbacks from residences, roads and existing transmission and distribution lines. Navitas has acquired lease options within the 31-square mile project area sufficient to support the 200-MW Project. Spacing of the wind turbines would also be determined by localized wind conditions and topography, turbine technology, and desired east-west spacing of three rotor diameters and north-south spacing of six rotor diameters. Navitas would like to begin construction in Spring 2006; the life of the proposed Project is anticipated to be a minimum of 20 years.

Power generated by the Project would be delivered to a new Navitas substation, which would be constructed immediately adjacent to Western's existing White Substation. This new substation would occupy up to 11 acres of land. White Substation is located in the southeast corner of the project area. Navitas has applied to Western to interconnect the proposed Project to Western's power transmission system at White Substation.

Because interconnection of the proposed Project would incorporate a major new generation resource into Western's power transmission system, Western has determined that an EIS is required under DOE NEPA implementing procedures, 10 CFR part 1021, Subpart D, Appendix D, class of action D6. Western will be the lead Federal agency for preparing the EIS, as defined at 40 CFR 1501.5. Since the proposed Project would be constructed entirely on private land, there are no Federal or state land management agencies with jurisdiction. Western will invite Federal, state, local, and tribal agencies with jurisdiction by law or special expertise with respect to environmental issues to be cooperating agencies on the EIS, as defined at 40 CFR 1501.6. Such agencies may also make a request to Western to be a cooperating agency. Designated cooperating agencies have certain responsibilities to support the NEPA process, as specified at 40 CFR 1501.6(b).

Full public participation and disclosure are planned for the entire EIS process. Western anticipates the EIS process will take about one year, and will include the open-house public scoping meeting; consultation and involvement with appropriate Federal, State, local, and tribal governmental agencies; public review and a hearing on the published draft EIS; a published final EIS; a review period; and publication of a Record of Decision expected in early 2006. Additional informal public meetings may be held in the project area if public interest and issues indicate a need. Western may also mail newsletters to the project mailing list to communicate Project status and developments.

Western will hold a 30-day scoping period to ensure that interested members of the public and groups, and Federal, state, local, and tribal agencies have an opportunity to provide input on the scope of the process and the alternatives that will be addressed in the EIS. Western will also hold a public open-house scoping meeting near the project area during the scoping period. The purpose of the scoping meeting will be to provide information about the proposed Project, answer questions, and take verbal and written comments from interested parties.

The open-house public scoping meeting will be held at the Midwest Center for Wind Energy, 2390 County Highway 1, Hendricks, Minnesota, on Tuesday, March 1, 2005. Members of the public and representatives of groups, Federal, state, local and tribal agencies are welcome to attend anytime between 5 and 8 p.m. The Center is located approximately 25 miles northeast of the City of Brookings and approximately 15 miles east of the City of White, just east of the South Dakota/Minnesota state line. The Center has displays and other information on the development of wind energy projects which attendees may find useful. Attendees will have the opportunity to view proposed Project and NEPA process displays and other information. The open-house scoping meeting will be very informal, with Western and Navitas representatives available for one-on-one discussions with attendees. Written comments may be left with one of Western's representatives at the scoping meeting, or may be provided by e-mail or U.S. Postal Service mail to Western. Written comments should be sent to the address provided above. Comments on Project scoping and alternatives will be due before the scoping period expires on March 31, 2005, but comments on other aspects of the proposed Project will be accepted and considered throughout the NEPA process.

Dated: February 8, 2005.
Michael S. Hacskaylo,
Administrator.

[FR Doc. 05-3147 Filed 2-17-05; 8:45 am]

BILLING CODE 6450-01-P